COUNCIL ON ENVIRONMENTAL QUALITY

Draft Principles and Standards Sections of the “Economic and Environmental Principles and Guidelines for Water and Related Land Resources Implementation Studies”; Initiation of Revision and Request for Comments

AGENCY: Council on Environmental Quality.

ACTION: Notice and request for comments.

SUMMARY: Section 2031 of the Water Resources Development Act of 2007 (Pub. L. 110-114) directs the Secretary of the Army to revise the “Economic and Environmental Principles and Guidelines for Water and Related Land Resources Implementation Studies,” (P&G) dated March 10, 1983, consistent with a number of considerations enumerated in the statute. The Administration has initiated the development of uniform planning standards for the development of water resources that would apply to water resources development programs and activities government-wide, to agencies in addition to the traditional water resources development agencies covered under the current Principles and Guidelines: the Army Corps of Engineers, Bureau of Reclamation (Interior), Natural Resources Conservation Service (USDA), and Tennessee Valley Authority. Therefore, the Council on Environmental Quality (CEQ), in coordination with the Office of Management and Budget, has implemented a two phase interagency process revising the planning guidance. The first phase focused on facilitating interagency revisions to the “Principles and Standards” (Chapter I of the existing P&G) of Principles and Guidelines for planning water resources projects. The second phase will address revisions to the Procedures (Chapters II through IV of the 1983 P&G)

Upon approval of the revised “Principles and Standards” and the future revision of the Procedures, the entire revision will apply to Federal water resources implementation studies including project reevaluations and modifications except those commenced prior to the issuance of the revised guidance. The purpose of this notice is to provide an opportunity for interested individuals and organizations to submit comments on the revised “Principles and Standards”. Using these comments and those from the National Academy of Sciences, CEQ will lead an interagency effort to finalize the Principles and Standards and draft the Procedures sections of the Principles and Guidelines.

Draft Document for Review: The draft “Principles and Standards” for review can be accessed on the Internet at http://www.whitehouse.gov/administration/eop/ceq/initiatives/PandG/ or, upon request, will be provided by mail or e-mail.

DATES: CEQ is inviting written comments and they will be accepted through March 5, 2010.

ADDRESSES: Comments may be submitted in writing to the Council on Environmental Quality, Attn: Terry Breyman, 722 Jackson Place, NW., Washington, DC 20503, via e-mail to P&G@ceq.eop.gov, FAX 202-456-6546, or submitted via the CEQ Web page at http://www.whitehouse.gov/administration/eop/ceq/initiatives/PandG/.

FOR FURTHER INFORMATION CONTACT: Terry Breyman, Deputy Associate Director for Natural Resources, at 202-456-9721.

SUPPLEMENTARY INFORMATION: The Council on Environmental Quality in conjunction with the Office of Management and Budget is seeking comments on the revised draft of the “Principles and Standards” (Chapter I of the 1983 P&G) which is the first phase. Revision of Chapters II through IV of the Procedures will be initiated at a later date. Written comments should be submitted to Terry Breyman, 722 Jackson Place, NW., Washington, DC 20503 or via e-mail to P&G@ceq.eop.gov or FAX 202-456-6546. Comments may also be submitted directly to the Council of Environmental Quality Web page at http://www.whitehouse.gov/administration/eop/ceq/initiatives/PandG/. To help understand the changes, the following background documents will be made available by mail or e-mail or they may be accessed at the Internet addresses indicated: “Economic and Environmental Principles and Guidelines for Water and Related Land Resources Implementation Studies dated March 10, 1983 (http://www.usace.army.mil/CECW/PlanningCOP/Documents/library/Principles_Guidelines.pdf) Water Resources Development Act of 2007 (Pub. L. 110-114) at http://www.usace.army.mil/CECW/PlanningCOP/Documents/library/hr1495_pl110-114.pdf.

Dated: December 3, 2009.
Nancy H. Sutley,
Chairman, Council on Environmental Quality.

[FR Doc. E9-29270 Filed 12-8-09; 8:45 am]

BILLING CODE 3125-W0-P